DEPARTMENT OF HEALTH AND HUMAN SERVICES

[Document Identifier OS-0990-new]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before May 29, 2020.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Substance Use Disorder Patient Placement Criteria Used By States.

Type of Collection: New.

The Office of the Assistant Secretary for Planning and Evaluation (ASPE) at the U.S. Department of Health and Human Services (HHS) is requesting Office of Management and Budget (OMB) approval for a one-time survey of state agencies regarding their use of substance use disorder (SUD) patient placement criteria and assessment tools. The proposed survey is one component of a larger project to assess the feasibility of gathering and utilizing needs assessment data to identify and address unmet patient needs by levels of care. Results from this survey will provide ASPE with information about the types of patient placement data states collect and maintain, and the degree to which the data can be used to understand the SUD treatment gap. These results will provide ASPE with information that can be used to develop a multistate dataset of needs assessment that can be updated over time. Such a dataset is necessary for understanding and addressing treatment needs in the nation on an ongoing basis.

The 17-question survey requests information related to state requirements for using patient placement criteria and assessment tools for individuals with SUD. Additional questions ask how data from the placement criteria and/or assessment tools are maintained; if level of care data has been used to help determine service gaps and need for greater capacity; and whether the respondent could provide weblinks to available information on the criteria used in their state.

Two individuals from each state and the District of Columbia will be invited to respond to the survey. Respondents will be representatives from each state's Single State Authority (SSA) and the Medicaid Agency. An eighty-five percent response rate is anticipated, resulting in an estimated 87 total participants.

This project falls under Section 301 of the Public Health Service Act (42U.S.C. 241) [280-1a] which authorizes the Office of the Secretary to conduct and coordinate studies relating to the causes, diagnosis, treatment, control, and prevention of physical and mental diseases.

The total annual burden hours estimated for this information collection request are summarized in the table below.

Total Estimated Annualized Burden—Hours
Forms | Number of respondents | Number of responses per respondent | Average burden per response (hours) | Total annual burden (hours)
Survey on SUD Placement Criteria | 87 | 1 | 10/60 | 14.5

Sherrette A. Funn,
Office of the Secretary, Paperwork Reduction Act Reports Clearance Officer.

[FR Doc. 2020-09108 Filed 4-28-20; 8:45 am]

BILLING CODE 4151-05-P